DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-052. Applicant: University of Texas, Medical Branch at Galveston, 301 University Boulevard, Galveston, TX 77555. Instrument: Electron Microscope, Model JEM-2100. Manufacturer: JEOL Ltd., Japan. Intended Use: The instrument is intended to be used to determine high-resolution, three dimensional structures of large biological entities such as protein, DNA, and RNA assemblies, cellular organelles, and tissues and to develop electron tomography to obtain structures of asymmetrical assemblies and of whole cells or large organelles. It will also be used to train graduate students and post-doctoral scientists in macromolecular structure determination and electron microscopy. Application accepted by Commissioner of Customs: December 1, 2005.

Docket Number: 05-053. Applicant: Howard Hughes Medical Institute, 4000 Jones Bridge Road, Chevy Chase, MD 20815-6789. Instrument: Electron Microscope, Model Techni G2 F20 TWIN. Manufacturer: FEI Company, The Netherlands. Intended Use: The instrument is intended to be used for studying the structural analysis of biological complexes that makes them cellular units of function, and the structural bases for regulating such complexes including structural characterization of microtubules and their interaction with cellular factors and antimitotic ligands, transcription initiation and regulation, and the molecular machinery involved in transcription-coupled DNA repair. It will also be used for undergraduate and graduate research. Application accepted by Commissioner of Customs: December 7, 2005.

Docket Number: 05-054. Applicant: University of Illinois, Suite 212 Tech Plaza, 616 East Green Street, Champaign, IL 61820. Instrument: Curved Image Plate Detector. Manufacturer: Technische Universitat Darmstadt, Germany. Intended Use: The instrument is intended to be used to develop a fast, high-resolution, x-ray powder diffraction apparatus using a beamline facility at the Advanced Photon Source of Argonne National Laboratory. It will be employed to study in-situ, high temperature (to 2000 degrees C) material properties and behavior of ceramics and ceramic composites including phase transformation mechanisms (e.g., martensitic), the kinetics of phase transformations and the chemical reactions of binary and ternary mixtures of ceramic materials, and phase equilibria and phase diagrams with the general goal of developing tougher and stronger high temperature structural composites. Application accepted by Commissioner of Customs: December 7, 2005.

Docket Number: 05-055. Applicant: Rutgers, The State University of New Jersey, 3 Rutgers Plaza, New Brunswick, NJ 08901-88559. Instrument: Near-field Optical Microscope for integration with micro-Raman. Manufacturer: Nanonics Imaging Ltd., Israel. Intended Use: The instrument is intended to be used to image the structure and map the chemistry of example nanostructured materials (such as silicon wafers)in a variety of undergraduate laboratory courses involving nanomaterials. Application accepted by Commissioner of Customs: December 9, 2005.

Docket Number: 05-056. Applicant: University of Illinois at Chicago, Department of Physics (m/c 273), 845 West Taylor Street, Chicago, IL 60607-7059. Instrument: Magnesium Fluoride Windows. Manufacturer: Laser-Laboratorium, Gottingen, Germany. Intended Use: The instrument is intended to be used to provide amplification of a light beam to a power above 10 to the 12th W for studies including the following:

1. Measuring fragments such as ions and photons of materials irradiated directly with an intense ultraviolet beam

2. Determining the energy flow and the nature of secondary radiation produced

3. Instrumental control of the focus, thereby maximizing the intensity at which such experiments can be conducted

4. Studying absorption and excitation.

The instrument will also be used for instruction of graduate students. Application accepted by Commissioner of Customs: December 9, 2005

Gerald A. Zerdy,
Program Manager, Statutory Import Programs Staff.

[FR Doc. E5-8093 Filed 12-28-05; 8:45 am]

BILLING CODE 3510-DS-S